DEPARTMENT OF JUSTICE

Office of Justice Programs

[OJP (OJJDP) Docket No. 1575]

Hearing of the Attorney General's National Task Force on Children Exposed to Violence

AGENCY: Office of Juvenile Justice and Delinquency Prevention (OJJDP).

ACTION: Notice of hearing.

SUMMARY: This is an announcement of the first hearing of the Attorney General's National Task Force on Children Exposed to Violence (hereafter refered to as the Task Force). The Task Force is chartered to provide the Attorney General with valuable advice in the areas of children's exposure to violence for the purpose of addressing the epidemic levels of exposure to violence faced by our nation's children. Based on the testimony at four public hearings, on comprehensive research, and on extensive input from experts, advocates, and impacted families and communities nationwide, the Task Force will issue a final report to the Attorney General presenting its findings and comprehensive policy recommendations in the fall of 2012.

DATES: The hearing will take place on Tuesday, November 29, and Wednesday, November 30, 2011.

ADDRESSES: The hearing will take place at the University of Maryland Francis King Carey School of Law, 500 W. Baltimore Street, Baltimore, MD.

FOR FURTHER INFORMATION CONTACT: Will Bronson, Task Force Designated Federal Officer (DFO) and Deputy Associate Administrator, Child Protection Division, Office of Juvenile Justice & Delinquency Prevention, Office of Justice Programs, 810 7th Street NW., Washington, DC 20531. Phone: (202) 305-2427 [Note: this is not a toll-free number]; email: willie.bronson@usdoj.gov.

SUPPLEMENTARY INFORMATION: This hearing is being convened to provide information to the Task Force members about the issue of children's exposure to violence. The final agenda is subject to adjustment, but it is anticipated that on November 29, 2011, there will be a morning and afternoon session, with a break for lunch. The morning session will likely include welcoming remarks and introductions, and panel presentations from invited guests on the impact of children's exposure to violence. The afternoon session will likely include presentations from experts invited to brief the Task Force on measuring and describing children's exposure to violence, and several existing programs that attempt to address this epidemic. Opportunities for public comment will occur in the afternoon on November 29th. On November 30th, there will be a morning and afternoon session, with a brief break for lunch. The morning session will include a review of material presented during the previous day and planning for subsequent hearings. The afternoon session will include a discussion on the structure of the final report.

This meeting is open to the public. Members of the public who wish to attend this meeting must provide photo identification upon entering the hearing facility. Those wishing to provide public testimony during the hearings should register with Will Bronson at the above address at least seven (7) days in advance of the meeting. Registrations will be accepted on a space available basis. Testimony will not be allowed without prior registration. Please bring photo identification and allow extra time prior to the meeting for your arrival. Persons interested in providing written testimony to the Task Force should submit their written comments to the DFO at least seven (7) days prior to the hearing.

Anyone requiring special accommodations should notify Mr. Bronson at least seven (7) days in advance of the meeting.

Will Bronson,
Deputy Associate Administrator, Child Protection Division and National Task Force on Children Exposed to Violence Designated Federal Officer, Office of Juvenile Justice and Delinquency Prevention, Office of Justice Programs.

[FR Doc. 2011-28322 Filed 11-1-11; 8:45 am]

BILLING CODE 4410-18-P